DEPARTMENT OF TRANSPORTATION

National Highway Traffic Safety Administration

[Docket No. NHTSA-2017-0100; Notice 1]

Volkswagen Group of America, Inc., Receipt of Petition for Decision of Inconsequential Noncompliance

AGENCY: National Highway Traffic Safety Administration (NHTSA), Department of Transportation (DOT).

ACTION: Receipt of petition.

SUMMARY: Volkswagen Group of America, Inc. (Volkswagen), has determined that certain seat belt assemblies that it sold to its dealers as replacement equipment for certain model year (MY) 2009-2014 Volkswagen Routan motor vehicles do not fully comply with Federal Motor Vehicle Safety Standard (FMVSS) No. 209, Seat Belt Assemblies. Volkswagen filed a noncompliance report dated November 8, 2017. Volkswagen then petitioned NHTSA on November 29, 2017, for a decision that the subject noncompliance is inconsequential as it relates to motor vehicle safety.

DATES: The closing date for comments on the petition is April 20, 2018.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE, Washington, DC 20590.

• Hand Delivery: Deliver comments by hand to U.S. Department of Transportation, Docket Operations, M-30, West Building Ground Floor, Room W12-140, 1200 New Jersey Avenue SE, Washington, DC 20590. The Docket Section is open on weekdays from 10 a.m. to 5 p.m. except Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: Volkswagen has determined that certain seat belt assemblies that it sold to its dealers as replacement equipment for certain MY 2009-2014 Volkswagen Routan motor vehicles do not fully comply with paragraphs S4.1(k) and S4.1(l) of FMVSS No. 209, Seat Belt Assemblies (49 CFR 571.209). Volkswagen filed a noncompliance report dated November 8, 2017, pursuant to 49 CFR part 573, Defect and Noncompliance Responsibility and Reports. Volkswagen also petitioned NHTSA on November 29, 2017, pursuant to 49 U.S.C. 30118(d) and 30120(h) and 49 CFR part 556, for an exemption from the notification and remedy requirements of 49 U.S.C. Chapter 301 on the basis that this noncompliance is inconsequential as it relates to motor vehicle safety.

This notice of receipt of Volkswagen petition is published under 49 U.S.C. 30118 and 30120 and does not represent any agency decision or other exercise of judgment concerning the merits of the petition.

II. Equipment Involved: Approximately 1,900 replacement seat belt assemblies manufactured between June 25, 2008, and October 25, 2013 for installation in certain MY 2009-2014 Volkswagen Routan motor vehicles.

III. Noncompliance: Volkswagen explains that the noncompliance involves seat belt assemblies sourced to Volkswagen by FCA US LLC for use or for subsequent resale to dealership customers for use in the subject vehicles. Specifically, these seat belt assemblies were sold without the proper inclusion of the “I-Sheets” (i.e., “Installation instructions” and “Usage and maintenance instructions”), and therefore, do not meet all applicable requirements specified in paragraphs S4.1(k) and 4.1(l) of FMVSS No. 209.

IV. Rule Requirements: Paragraph S4.1(k) and S4.1(l) of FMVSS No. 209 includes the requirements relevant to this petition:

• A seat belt assembly, other than a seat belt assembly installed in a motor vehicle by an automobile manufacturer, shall be accompanied by an instruction sheet providing sufficient information for installing the assembly in a motor vehicle.

• The installation instructions shall state whether the assembly is for universal installation or for installation only in specifically stated motor vehicles, and shall include at least those items specified in SAE Recommended Practice J800c (1973) (incorporated by reference, see § 571.5).

• If the assembly is for use only in specifically stated motor vehicles, the assembly shall either be permanently and legibly marked or labeled with the following statement, or the instruction sheet shall include the following statement:

○ This seat belt assembly is for use only in [insert specific seating position(s), e.g., “front right”] in [insert specific vehicle make(s) and model(s)].

• A seat belt assembly or retractor shall be accompanied by written instructions for the proper use of the assembly, stressing particularly the importance of wearing the assembly snugly and properly located on the body, and on the maintenance of the assembly and periodic inspection of all components.

• The instructions shall show the proper manner of threading webbing in the hardware of seat belt assemblies in which the webbing is not permanently fastened. Instructions for a nonlocking retractor shall include a caution that the webbing must be fully extended from the retractor during use of the seat belt assembly unless the retractor is attached to the free end of webbing which is not subjected to any tension during restraint of an occupant by the assembly. Instructions for Type 2a shoulder belt shall include a warning that the shoulder belt is not to be used without a lap belt.

V. Summary of Volkswagen's Petition: Volkswagen described the subject noncompliance and stated its belief that the noncompliance is inconsequential as it relates to motor vehicle safety.

In support of its petition, Volkswagen submitted the following reasoning:

1. Seat belts currently sold by Volkswagen to its dealers are only for installation as replacement seat belts in specific seating positions in Volkswagen Routan vehicles and are identified by part number in the parts catalogue for use in specific vehicle models and seat positions. This method of identification and the physical differences between belt retractors and attachment hardware, as well as the vehicle installation environment, preclude the misinstallation of seat belt assemblies.

2. Seat belt assembly installation instructions are included in Volkswagen Service Manuals and are available to independent repair shops and individual owners who can also purchase the Service Manual or seek dealer assistance and obtain copies of the instructions, if necessary. In most cases, reference to the installation instructions will not be necessary because the seat belt installation will be to replace an existing belt and the installation procedure will just be the reverse of the removal procedure.

3. Seat belt use instructions regarding proper seat belt positioning on the body and proper maintenance and periodic inspection for damage, are and have been included in all Volkswagen owners' manuals.

4. Volkswagen has developed installation and use instructions for replacement seat belt assemblies. This material is being placed into the packages of seat belts currently in Volkswagen's Parts Distribution Centers and will be included with all seat belt assemblies shipped to Volkswagen for resale to dealers in the future.

5. Volkswagen is not aware of owner complaints or field incident reports relating to the lack of installation and use instructions with replacement seat belt assemblies.

Volkswagen stated that NHTSA has previously granted similar petitions for noncompliance with seat belt assembly installation and usage instruction standards. See Mitsubishi Motors North America, Inc. (77 FR 24762, April 25, 2012); Bentley Motors, Inc. (75 FR 35877, September 20, 2011); Hyundai Motor Company (73 FR 49238, March 2, 2009); Ford Motor Company (73 FR 11462, March 3, 2008); Mazda North America Operations (73 FR 11464, March 3, 2008); Ford Motor Company (73 FR 63051, October 22, 2008); and TRW, Inc. (58 FR 7171, February 4, 1993).

Volkswagen also stated that they have made process changes to ensure that hard copies of the instructions will be included with all Volkswagen service seat belt assemblies shipped to its dealers.

Volkswagen concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Volkswagen no longer controlled at the time it determined that the noncompliance existed. However, any decision on this petition does not relieve vehicle distributors and dealers of the prohibitions on the sale, offer for sale, or introduction or delivery for introduction into interstate commerce of the noncompliant vehicles under their control after Volkswagen notified them that the subject noncompliance existed.

Authority: (49 U.S.C. 30118, 30120: Delegations of authority at 49 CFR 1.95 and 501.8)

Claudia Covell,
Acting Director, Office of Vehicle Safety Compliance.

[FR Doc. 2018-05689 Filed 3-20-18; 8:45 am]

BILLING CODE 4910-59-P